NEIGHBORHOOD REINVESTMENT CORPORATION

Sunshine Act Meetings; Regular Board of Directors Meeting

TIME AND DATE: 2:00 p.m., Thursday, August 20, 2020.

PLACE: Via Conference Call.

STATUS: Open (with the exception of Executive Session).

MATTERS TO BE CONSIDERED: The General Counsel of the Corporation has certified that in his opinion, one or more of the exemptions set forth in 5 U.S.C. 552(b)(2) and (4) permit closure of the following portion(s) of this meeting:

• Executive Session

Agenda

I. Call to Order

II. Executive Session: Report from CEO

III. Executive Session: Report of CFO

IV. Action Item Recognition of Service for Board Member McWatters

V. Action Item Approval of Minutes

VI. Action Item Capital Corporations—New Master Investment Agreement

VII. Action Item FY12 Preliminary Spend Plan

VIII. Discussion Item FY22 Budget Submission

IX. Discussion Item Setting Board Meeting Schedule for Calendar Year 2021

X. Management Program Background and Updates

XI. Adjournment

CONTACT PERSON FOR MORE INFORMATION: Lakeyia Thompson, Special Assistant, (202) 524-9940; Lthompson@nw.org.

Lakeyia Thompson,
Special Assistant.

[FR Doc. 2020-17582 Filed 8-7-20; 11:15 am]

BILLING CODE 7570-02-P